FEDERAL COMMUNICATIONS COMMISSION

47 CFR Part 64

[CG Docket Nos. 10-51 and 03-123; DA 17-76]

Structure and Practices of the Video Relay Services Program

AGENCY: Federal Communications Commission.

ACTION: Final rule.

SUMMARY: In this document, the Commission's Consumer and Governmental Affairs Bureau (Bureau or CGB), pursuant to delegated authority, adopts amendments to the Commission's telecommunications relay services (TRS) rules to incorporate technical standards to improve the interoperability and portability of services, equipment, and software used for video relay services (VRS) to enhance functional equivalence and VRS availability for consumers, ease of compliance by providers, and overall efficiency in the operation of VRS.

DATES: Effective Date: This rule is effective as of May 30, 2017. The incorporation by reference of certain publications listed in the rules is approved by the Director of the Federal Register as of May 30, 2017.

Compliance Dates: The compliance date for the VRS Provider Interoperability Profile is August 25, 2017. The compliance date for the Relay User Equipment (RUE) Profile is April 27, 2018. The compliance date for contact lists and speed dial lists is October 24, 2017.

FOR FURTHER INFORMATION CONTACT: Bob Aldrich, Consumer and Governmental Affairs Bureau (202) 418-0996, email Robert.Aldrich@fcc.gov, or Eliot Greenwald, Consumer and Governmental Affairs Bureau, (202) 418-2235, email Eliot.Greenwald@fcc.gov.

SUPPLEMENTARY INFORMATION: This is a summary of Structure and Practices of the Video Relay Service Program; Telecommunications Relay Services and Speech-to-Speech Services for Individuals with Hearing and Speech Disabilities, Report and Order, document DA 17-76, adopted on January 17, 2017, and released on January 17, 2017, in CG Docket Nos. 10-51 and 03-123. The Further Notice of Proposed Rulemaking, DA 17-76, is published elsewhere in this issue. The full text of document DA 17-76 will be available for public inspection and copying via ECFS, and during regular business hours at the FCC Reference Information Center, Portals II, 445 12th Street SW., Room CY-A257, Washington, DC 20554. To request materials in accessible formats for people with disabilities (Braille, large print, electronic files, audio format), send an email to fcc504@fcc.gov or call the Consumer and Governmental Affairs Bureau at (202) 418-0530 (voice), (844) 432-2272 (videophone), or (202) 418-0432 (TTY).

Incorporation by Reference

The Office of the Federal Register (OFR) requires that agencies must discuss in the preamble of a final rule ways that the materials the agency is incorporating by reference are reasonably available to interested parties. In addition, the preamble of the final rule must summarize the material. The US VRS Provider Profile TWG-6-1, the US Video Relay Service (VRS) Provider Interoperability Profile, Version 15, (2015) (VRS Provider Interoperability Profile), provides technical specifications for the interface between VRS providers and the interface between a VRS provider and the TRS Numbering Directory. The document is available from the Federal Communications Commission, 445 12th Street SW., Washington, DC 20554, (202) 418-0270, https://www.fcc.gov/files/sip-forum-vrs-us-providers-profile-twg-6-1. The Interoperability Profile for Relay User Equipment, draft-vrs-rue-dispatch-00 (2016) (RUE Profile), provides technical specifications that define a standard interface between a relay user's equipment and the services offered by relay service providers. The document is available from IETF Secretariat, 5177 Brandin Court, Fremont, CA 94538, 510-492-4080, https://datatracker.ietf.org/doc/draft-vrs-rue-dispatch. Request for Comments (RFC) 6351, xCard: vCard XML Representation (2011) (xCard XML Format), specifies a standard data interchange format for exporting and importing user personal contacts lists (i.e., address books) and user speed dial lists. The document is available from IETF Secretariat, 5177 Brandin Court, Fremont, CA 94538, 510-492-4080, https://tools.ietf.org/html/rfc6351. In addition, all of the above documents are available for inspection at the Federal Communications Commission, 445 12th Street SW., Reference Information Center, Room CYA257, Washington, DC 20554, (202) 418-0270.

Congressional Review Act

The Commission will send a copy of document DA 17-76 to Congress and the Government Accountability Office pursuant to the Congressional Review Act, see 5 U.S.C. 801(a)(1)(A).

Final Paperwork Reduction Act of 1995 Analysis

Document DA 17-76 does not contain any new or modified information collection requirements subject to the Paperwork Reduction Act of 1995, Public Law 104-13. In addition, therefore, it does not contain any new or modified information collection burden for small business concerns with fewer than 25 employees, pursuant to the Small Business Paperwork Relief Act of 2002, Public Law 107-198, see 44 U.S.C. 3506(c)(4).

Synopsis

1. In document DA 17-76, the Bureau pursuant to delegated authority provided by the Commission in the Structure and Practices of the Video Relay Service Program, et al., Report and Order, published at 78 FR 40582, July 5, 2013 (2013 VRS Reform Order), amends the Commission's telecommunication relay service (TRS) rules to incorporate by reference certain technical standards for the interoperability and portability of services, equipment, and software used for video relay service (VRS). In August 2015, the VRS Task Group of the Session Initiation Protocol (SIP) Forum completed a technical standard addressing interoperability between VRS providers, entitled the US VRS Provider Interoperability Profile (VRS Provider Interoperability Profile). Subsequently, the VRS providers formed another group, the Relay User Equipment Forum (RUE Forum), which published a second technical standard addressing interoperability between a VRS provider and user equipment and software, entitled the Interoperability Profile for RUE Profile.

VRS Provider Interoperability Profile

2. The VRS Provider Interoperability Profile provides technical specifications for the interface between two VRS providers, as well as the interface between a VRS provider and the TRS Numbering Directory. The TRS Numbering Directory is a database that enables the routing of VRS and point-to-point video calls that originate and terminate with different VRS providers. The Bureau concludes that the VRS Provider Interoperability Profile will advance the Commission's goals of ensuring interoperability and portability and will “advance the statutory functional equivalency mandate [and] improve the availability of TRS, in the most efficient manner,” in accordance with the 2013 VRS Reform Order. Specifically, this standard will provide a common framework for provider compliance and specific criteria for assessing such compliance and will thereby increase the certainty that all VRS users can place and receive calls through any VRS provider and make point-to-point calls to all other VRS users, irrespective of the default provider of the parties to the call, and without the caller having to change the VRS access technology used to make such calls. The Bureau therefore adopts the proposal to incorporate the VRS Provider Interoperability Profile by reference.

RUE Profile

3. The RUE Profile provides technical specifications that define a standard interface between a relay user's equipment and the services offered by relay service providers. The RUE Profile thus addresses a number of technical issues not governed by the VRS Provider Interoperability Profile. By specifying a basic interface that is usable with any provider, so that a user can freely access any provider and switch to a different default provider, without the need to change equipment or software and without experiencing any inconvenience or disruption of communications functions, the RUE Profile appears to advance the goal of full functional equivalence, potentially allowing VRS consumers the same degree of equipment portability that wireline voice communications users have enjoyed for decades. Although the Consumer Groups support the incorporation by reference of the RUE Profile in the VRS interoperability rule, VRS providers claim that the purpose of the RUE Profile, as developed, is limited to defining an interface between user equipment utilizing the VRS access technology reference platform, now known as the Accessible Communications for Everyone (ACE) Application, or “ACE App,” and VRS providers' networks. They contend that a rule requiring all provider-distributed VRS user hardware and software to comply with the RUE Profile would impose major costs and burdens on VRS providers.

4. In document DA 17-76, the Bureau incorporates the RUE Profile by reference into the interoperability rule, but on a limited basis that preserves providers' flexibility to continue offering user equipment and software that does not conform to the RUE Profile in all respects, pending further determinations in this proceeding. The Bureau recognizes the concerns raised by the providers that immediate application of the RUE Profile as a whole to all user equipment and software may not be feasible without resulting in significant disruption of existing user arrangements. Accordingly, the rule the Bureau adopts requires VRS providers to comply with the RUE Profile only for purposes of ensuring provider interoperability with the ACE App. The Bureau defers to the Further Notice of Proposed Rulemaking the question of to what extent, and on what timetable, the RUE Profile should be more broadly applied to existing and prospective access technology offered by providers.

5. The Commission previously amended its rules to require VRS providers to “ensure that their VRS access technologies and their video communications service platforms are interoperable with the [ACE App].” To ensure that the ACE App interoperability requirement is enforceable, the Bureau adopts a rule that incorporates the RUE Profile by reference into the existing rule requiring interoperability between provider services and the ACE App. As the Bureau expects that the ACE App will be released in the near future in a version suitable for interoperability testing, the Bureau concludes that it is reasonable to allow one year for VRS providers to complete software development, testing, and deployment to ensure that their networks are interoperable with the ACE App.

Contact Lists and Speed Dial Lists

6. In the 2013 VRS Reform Order, the Commission mandated that standards for the transfer of users' contact and speed dial lists be broadly applicable to all VRS access technologies. The RUE Profile specifies such a standard data interchange format, RFC 6351, the xCard XML Format.

7. Accordingly, the Bureau amends the rules to incorporate into the existing interoperability and portability rules the xCard specification referenced in the RUE Profile.

Updating the Standards

8. The Bureau adopts the following procedure for incorporating amendments or changes to the VRS Provider Interoperability Profile and the RUE Profile into the Commission's rules in a timely and efficient manner. Under this procedure, CGB will make the updated standard available to the public online and issue a public notice seeking comment on such modifications, followed by an order incorporating into the VRS rules amendments or changes by reference if justified based on the resulting record. When such revised standards are completed and accepted by the Bureau, a second public notice will be issued containing information on how to access the modified standards and establishing an implementation schedule.

Final Regulatory Flexibility Analysis

9. As required by the Regulatory Flexibility Act of 1980, as amended (RFA), the Bureau incorporated an Initial Regulatory Flexibility Analysis (IRFA) into Structure and Practices of the Video Relay Service Program; Telecommunications Relay Services and Speech-to-Speech Services for Individuals with Hearing and Speech Disabilities, Further Notice of Proposed Rulemaking, published at 81 FR 57851, August 24, 2016 (August FNPRM). The Commission sought written public comment on the proposals in the August FNPRM, including comment on the IRFA. No comments were received on the IRFA.

Need for, and Objectives of, the Proposed Rules

10. In document DA 17-76, the TRS rules are amended to incorporate by reference the technical standards for interoperability and portability of VRS services and equipment developed by the SIP Forum's VRS Task Group and a successor group, the RUE Forum.

11. The VRS Provider Interoperability Profile provides technical specifications for the interface between two VRS providers, as well as the interface between a VRS provider and the TRS Numbering Directory. The Bureau concludes that incorporation of the VRS Provider Interoperability Profile will advance the Commission's goals of ensuring interoperability and portability, as required by the 2013 VRS Reform Order, by providing a common framework for interoperability compliance and specific criteria for assessing such compliance.

12. The RUE Profile specifies a technical standard for the interface between a provider and user software. Because the Commission mandated that standards for the transfer of users' contact and speed dial lists be broadly applicable to all VRS access technologies, the Bureau amends the interoperability rule to incorporate by reference the xCard specification referenced in the RUE Profile. Further, the Bureau incorporates the complete RUE Profile into the requirement that VRS providers “ensure that their VRS access technologies and their video communications service platforms are interoperable with the [ACE App].”

13. In addition, document DA 17-76 adopts a process that will readily enable revisions to this rule to reflect future amendments or changes in these standards by issuing a public notice seeking comment on such modifications, followed by an order incorporating into the VRS rules amendments or changes by reference if justified based on the resulting record, after which a second public notice will be issued containing information on how to access the modified standards online and establishing an implementation schedule.

Summary of Significant Issues Raised by Public Comments in Response to the IRFA

14. No comments were filed in response to the IRFA.

Listing of Small Entities Impacted

15. The rules adopted in document DA 17-76 will affect obligations of providers of VRS. Affected small entities as defined by industry are as follows.

• All Other Telecommunications.

• VRS Providers, which are generally classified within the broad category of “All Other Telecommunications.”

Description of Projected Reporting, Recordkeeping, and Other Compliance Requirements

16. The rule changes adopted in the document DA 17-76 modify rules governing compliance obligations. Specifically, VRS providers must modify their networks, e.g., their protocols for routing calls to other providers and for enabling users to import contact lists, as necessary to conform to the technical standards incorporated into the existing TRS interoperability rules.

17. Steps Taken To Minimize Significant Impact on Small Entities and Significant Alternatives Considered

18. In general, alternatives to final rules are discussed only when those rules pose a significant adverse economic impact on small entities. In this context, however, the proposed rules generally confer benefits. In particular, technical standards for interoperability benefit the smaller VRS providers because consumers find the services of smaller providers to be more attractive when these services are interoperable than when they are not interoperable. These benefits outweigh any burdens associated with compliance. Moreover, because all of the VRS providers participated in the discussions associated with the development of the standards, the Bureau believes that these standards are acceptable to all VRS providers, including small entities. Further, to minimize any adverse impact on VRS providers, the Bureau adopted an alternative that narrows the scope of application of the technical standard for the interface between provider networks and user equipment and software, so that it governs only the interface between a provider's network and user equipment that employs designated open-source user software, rather than all user equipment and software. Lastly, document DA 17-76 allows extended implementation periods to ensure that providers have sufficient time to implement the standards.

Ordering Clauses

Pursuant to sections 1, 2, 4(i), 4(j), 225 and 303(r) of the Communications Act of 1934, as amended, 47 U.S.C. 151, 152, 154(i), 154(j), 225, 303(r), and the authority delegated by the Commission in Structure and Practices of the Video Relay Service Program et al., Report and Order, published at 78 FR 40582, July 5, 2013, document DA 17-76 is adopted, and part 64 of the Commission's rules is amended.

The Commission's Consumer and Governmental Affairs Bureau, Reference Information Center, shall send a copy of document DA 17-76, including the Final Regulatory Flexibility Analysis to the Chief Counsel for Advocacy of the Small Business Administration.

List of Subjects in 47 CFR Part 64

Incorporation by reference, Individuals with disabilities, Telecommunications relay services, Video relay services.

Federal Communications Commission.
Karen Peltz Strauss,
Deputy Bureau Chief, Consumer and Governmental Affairs Bureau.

For the reasons discussed in the preamble, the Federal Communications Commission amends 47 part 64 as follows:

PART 64—MISCELLANEOUS RULES RELATING TO COMMON CARRIERS

1. The authority citation for part 64 is revised to read as follows:

Authority: 47 U.S.C. 154, 225, 254(k); 403(b)(2)(B), (c), 715, Pub. L. 104-104, 110 Stat. 56. Interpret or apply 47 U.S.C. 201, 218, 222, 225, 226, 227, 228, 254(k), 616, 620, and the Middle Class Tax Relief and Job Creation Act of 2012, Pub. L. 112-96, unless otherwise noted.

2. Amend § 64.621 by:

a. In paragraph (a)(1), removing the first instance of “VRS” and adding in its place “Video Relay Service (VRS)”;

b. Revising paragraph (a)(3); and

c. Adding paragraphs (b) and (c) to read as follows:

§ 64.621 Interoperability and portability.

(a) * * *

(3) Beginning no later than April 27, 2018, all VRS providers must ensure that their VRS access technologies and their video communication service platforms are interoperable with the VRS Access Technology Reference Platform, including for point-to-point calls, in accordance with the Interoperability Profile for Relay User Equipment (RUE Profile). No VRS provider shall be compensated for minutes of use involving their VRS access technologies or video communication service platforms that are not interoperable with the VRS Access Technology Reference Platform.

* * * * *

(b) Technical standards for interoperability and portability. (1) Beginning no later than August 25, 2017, VRS providers shall ensure that their provision of VRS and video communications, including their access technology, meets the requirements of the VRS Provider Interoperability Profile.

(2) Beginning no later than October 24, 2017, VRS providers shall provide a standard xCard export interface to enable users to import their lists of contacts in xCard XML format, in accordance with IETF RFC 6351.

(c) Incorporation by reference. The standards required in this section are incorporated by reference into this section with the approval of the Director of the Federal Register under 5 U.S.C. 552(a) and 1 CFR part 51. All approved material is available for inspection at the Federal Communications Commission (FCC), 445 12th Street, SW., Reference Information Center, Room CY-A257, Washington, DC 20554, (202) 418-0270, and is available from the sources indicated below. It is also available for inspection at the National Archives and Records Administration (NARA). For information on the availability of this material at NARA, call 202-741-6030 or go to http://www.archives.gov/federal_register/code_of_federal_regulations/ibr_locations.htm.

(1) FCC (on behalf of SIP Forum), 445 12th Street SW., Washington, DC 20554, (888) 225-5322 (voice), (844) 432-2275 (videophone), (888) 835-5322 (TTY).

(i) VRS US Providers Profile TWG-6.1, the US VRS Provider Interoperability Profile, September 23, 2015. https://www.fcc.gov/files/sip-forum-vrs-us-providers-profile-twg-6-1.

(ii) [Reserved]

(2) The following standards are available from the Internet Engineering Task Force (IETF) Secretariat, 5177 Brandin Court, Fremont, CA 94538, 510-492-4080.

(i) The Interoperability Profile for Relay User Equipment, draft-vrs-rue-dispatch-00, July 20, 2016 https://datatracker.ietf.org/doc/draft-vrs-rue-dispatch/.

(ii) Request for Comments (RFC) 6351, xCard: vCard XML Representation (August 2011) https://tools.ietf.org/html/rfc6351.

[FR Doc. 2017-08488 Filed 4-26-17; 8:45 am]

BILLING CODE 6712-01-P